DEPARTMENT OF HEALTH AND HUMAN SERVICES

Centers for Disease Control and Prevention

[30Day-10-09AH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Improving the Quality and Delivery of CDC's Heart Disease and Stroke Prevention Programs—New—Division for Heart Disease and Stroke Prevention (DHDSP), National Center for Chronic Disease Prevention and Health Promotion (NCCDPHP), Centers for Disease Control and Prevention (CDC).

Background and Brief Description

Heart disease and stroke are among the most widespread and costly causes of death and disability in the U.S., but are also among the most preventable health problems. In 2006, CDC created the Division of Heart Disease and Stroke Prevention (DHDSP) to provide national leadership for efforts to reduce the burden of disease, disability, and death from heart disease and stroke.

Many heart disease and stroke prevention and control activities are conducted through DHDSP-funded heart disease and stroke prevention programs. The DHDSP's key partners include state and local health departments, public health organizations, community organizations, nonprofit organizations, and professional organizations. The DHDSP supports partners by conducting trainings, providing scientific guidance and technical assistance, and producing scientific information and supporting tools. For example, the DHDSP provides training to States on how to implement and evaluate their programs and provides guidance on how to best apply evidence-based practices. In addition, the DHDSP translates its scientific studies into informational products, such as on-line reports and trend data.

The DHDSP requests OMB approval of a generic clearance to support a variety of information collections needed to assess the relevance, quality and impact of DHDSP trainings, technical assistance, and products. The generic clearance will provide a common framework for many of DHDSP's planning and evaluation activities and enhance DHDSP's ability to coordinate information collection with product releases, professional conferences, and other events. The information to be collected will allow the DHDSP to identify new programmatic opportunities and respond quickly to partners' concerns in a timely manner. Whenever feasible, DHDSP will collect information electronically to reduce burden. Information may also be collected through in-person or telephone interviews or focus groups when web-based surveys are impractical or when in-depth responses are required.

Respondents will be DHDSP's partners in State and local government as well as partner organizations in the private sector. The DHDSP estimates that it will collect information each year from approximately 506 respondents through web-based surveys, approximately 406 respondents through interviews, and approximately 64 respondents through focus groups. No one type of respondent will be asked to participate in more than two surveys, interviews, or focus groups annually. The length of online surveys will be limited to 30 minutes and in-person interviews and focus groups limited to one hour or less.

CDC requests OMB approval of the generic clearance for three years. The initial generic information collection request describes plans to conduct two specific surveys. An additional information collection request, outlining purpose, respondents and methodology, will be submitted to OMB for each subsequent information collection activity.

The information to be collected will be used to determine whether DHDSP activities and products are reaching the intended audiences, whether they are deemed to be useful by those audiences, and whether DHDSP efforts improve public health practice.

There are no costs to respondents other than their time. The total estimated annualized burden hours are 723.

Estimated Annualized Burden Hours
Type of respondent | Form type | Number of respondents | Number of responses per respondent | Average burden per response (in hours)
State and Local Health Departments | Web-based survey | 306 | 1 | 30/60
| Interview | 306 | 1 | 1
| Focus group | 32 | 1 | 1
Private Sector Partners | Web-based survey | 200 | 1 | 30/60
| Interview | 100 | 1 | 1
| Focus group | 32 | 1 | 1

Dated: June 30, 2010.
Maryam I. Daneshvar,
Reports Clearance Officer, Centers for Disease Control and Prevention.

[FR Doc. 2010-16602 Filed 7-7-10; 8:45 am]

BILLING CODE 4163-18-P